DEPARTMENT OF TRANSPORTATION

Federal Aviation Administration

14 CFR Part 39

[Docket No. FAA-2006-23762; Directorate Identifier 2005-NM-226-AD; Amendment 39-14580; AD 2006-09-09]

RIN 2120-AA64

Airworthiness Directives; Boeing Model 767 Airplanes

AGENCY: Federal Aviation Administration (FAA), Department of Transportation (DOT).

ACTION: Final rule.

SUMMARY: The FAA is adopting a new airworthiness directive (AD) for all Boeing Model 767 airplanes. This AD requires repetitive inspections for cracking in the skin, the bulkhead outer chord, and the strap of the bulkhead outer chord at station (STA) 1725.5; and repair if necessary. This AD also provides for repairs, which are optional for airplanes on which no cracking is found, that terminate certain inspections. This AD results from reports of cracking in the skin panel common to stringer 7R and aft of the STA 1725.5 butt splice, and in the strap of the bulkhead outer chord at STA 1725.5. We are issuing this AD to detect and correct cracking in the skin, the bulkhead outer chord, or the strap of the bulkhead outer chord in this area, which could progress into surrounding areas and result in reduced structural integrity of the support structure for the vertical or horizontal stabilizer and subsequent loss of control of the airplane.

DATES: This AD becomes effective June 7, 2006.

The Director of the Federal Register approved the incorporation by reference of a certain publication listed in the AD as of June 7, 2006.

ADDRESSES: You may examine the AD docket on the Internet at http://dms.dot.gov or in person at the Docket Management Facility, U.S. Department of Transportation, 400 Seventh Street, SW., Nassif Building, Room PL-401, Washington, DC.

Contact Boeing Commercial Airplanes, P.O. Box 3707, Seattle, Washington 98124-2207, for service information identified in this AD.

FOR FURTHER INFORMATION CONTACT: Candice Gerretsen, Aerospace Engineer, Airframe Branch, ANM-120S, FAA, Seattle Aircraft Certification Office, 1601 Lind Avenue, SW., Renton, Washington 98055-4056; telephone (425) 917-6428; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all Boeing Model 767 airplanes. That NPRM was published in the Federal Register on February 2, 2006 (71 FR 5623). That NPRM proposed to require repetitive inspections for cracking in the skin, the bulkhead outer chord, and the strap of the bulkhead outer chord at station (STA) 1725.5; and repair if necessary. That NPRM also proposed to provide for repairs, which are optional for airplanes on which no cracking is found, that terminate certain inspections.

Comments

We provided the public the opportunity to participate in the development of this AD. We have considered the comment received. The commenter, Boeing, supports the NPRM.

Conclusion

We have carefully reviewed the available data, including the comment received, and determined that air safety and the public interest require adopting the AD as proposed.

Costs of Compliance

There are about 905 airplanes of the affected design in the worldwide fleet. The following table provides the estimated costs for U.S. operators to comply with this AD.

Estimated Costs
Action | Work hours | Average labor rate per hour | Cost per airplane | Number of U.S.-registered airplanes | Fleet cost
Part 1 Inspection, per inspection cycle | 5 | $65 | $325, per inspection cycle | 387 | $125,775 per inspection cycle.
Part 2 Inspections, per inspection cycle | 9 | 65 | $585, per inspection cycle | 387 | $226,395 per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-09-09 Boeing: Amendment 39-14580. Docket No. FAA-2006-23762; Directorate Identifier 2005-NM-226-AD.

Effective Date

(a) This AD becomes effective June 7, 2006.

Affected ADs

(b) None.

Applicability

(c) This AD applies to all Boeing Model 767-200, -300, -300F, and -400ER series airplanes, certificated in any category.

Unsafe Condition

(d) This AD results from reports of cracking in the skin panel common to stringer 7R and aft of the station (STA) 1725.5 butt splice, and in the strap of the bulkhead outer chord at STA 1725.5. We are issuing this AD to detect and correct cracking in the skin, the bulkhead outer chord, or the strap of the bulkhead outer chord in this area, which could progress into surrounding areas and result in reduced structural integrity of the support structure for the vertical or horizontal stabilizer and subsequent loss of control of the airplane.

Compliance

(e) You are responsible for having the actions required by this AD performed within the compliance times specified, unless the actions have already been done.

Repetitive Inspections

(f) Perform repetitive detailed and high frequency eddy current inspections for cracking in the skin, the bulkhead outer chord, and the strap of the bulkhead outer chord at STA 1725.5, in accordance with the Accomplishment Instructions of Boeing Special Attention Service Bulletin 767-53-0118, dated September 8, 2005. Do the initial and repetitive Part 1 and Part 2 inspections at the times specified in paragraph 1.E., Compliance, of the service bulletin; except, where the service bulletin specifies a compliance time after the issuance of the service bulletin, this AD requires compliance within the specified compliance time after the effective date of this AD.

Repair

(g) If any cracking is found during any inspection required by paragraph (f) of this AD: Before further flight, perform applicable repairs in accordance with the Accomplishment Instructions of Boeing Special Attention Service Bulletin 767-53-0118, dated September 8, 2005; except, where the service bulletin specifies to contact Boeing for repair instructions, before further flight, repair the cracking using a method approved in accordance with the procedures specified in paragraph (i) of this AD.

Optional Terminating Action

(h) Completing repairs specified in the Accomplishment Instructions of Boeing Special Attention Service Bulletin 767-53-0118, dated September 8, 2005, terminates the repetitive inspections required by paragraph (f) of this AD, as specified in paragraphs (h)(1) and (h)(2) of this AD.

(1) Completing repairs specified in paragraph 3.B.3.a. of the service bulletin terminates both the Part 1 and Part 2 inspections required by paragraph (f) of this AD.

(2) Completing repairs specified in paragraph 3.B.4.a. of the service bulletin terminates the Part 1 inspections required by paragraph (f) of this AD. Part 2 inspections must continue as required by paragraph (f) of this AD until the repairs specified in paragraph 3.B.3.a. of the service bulletin are completed.

Alternative Methods of Compliance (AMOCs)

(i)(1) The Manager, Seattle Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Material Incorporated by Reference

(j) You must use Boeing Special Attention Service Bulletin 767-53-0118, dated September 8, 2005, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on April 21, 2006.
Kalene C. Yanamura,
Acting Manager, Transport Airplane Directorate, Aircraft Certification Service.

[FR Doc. 06-4055 Filed 5-2-06; 8:45 am]

BILLING CODE 4910-13-P